DEPARTMENT OF TRANSPORTATION

Federal Aviation Administration

14 CFR Part 39

[Docket No. 2001-NM-181-AD]

RIN 2120-AA64

Airworthiness Directives; Boeing Model 747-200F and -200C Series Airplanes

AGENCY: Federal Aviation Administration, DOT.

ACTION: Notice of proposed rulemaking (NPRM).

SUMMARY: This document proposes the supersedure of an existing airworthiness directive (AD), applicable to all Boeing Model 747-200F and -200C series airplanes, that currently requires repetitive detailed inspections or a one-time open-hole high frequency eddy current inspection to detect cracking of certain areas of the upper deck floor beams, and corrective actions if necessary. This action would add new one-time inspections for cracking of the web, upper chord, and strap of the upper deck floor beams. This action also would add a requirement to modify or repair the upper deck floor beams, as applicable, which would eventually necessitate accomplishment of new repetitive inspections for cracking of the upper deck floor beams. This action is necessary to prevent fatigue cracks in the upper chord and web of upper deck floor beams and the resultant failure of such floor beams. Failure of a floor beam could result in damage to critical flight control cables and wire bundles that pass through the floor beam, and consequent loss of controllability of the airplane. Failure of the floor beam also could result in the failure of the adjacent fuselage frames and skin, and consequent rapid decompression of the airplane. This action is intended to address the identified unsafe conditions.

DATES: Comments must be received by August 4, 2003.

ADDRESSES: Submit comments in triplicate to the Federal Aviation Administration (FAA), Transport Airplane Directorate, ANM-114, Attention: Rules Docket No. 2001-NM-181-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-181-AD” in the subject line and need not be submitted in triplicate. Comments sent via the Internet as attached electronic files must be formatted in Microsoft Word 97 for Windows or ASCII text.

The service information referenced in the proposed rule may be obtained from Boeing Commercial Airplane Group, PO Box 3707, Seattle, Washington 98124-2207. This information may be examined at the FAA, Transport Airplane Directorate, 1601 Lind Avenue, SW., Renton, Washington.

FOR FURTHER INFORMATION CONTACT: Rick Kawaguchi, Aerospace Engineer, Airframe Branch, ANM-120S, FAA, Seattle Aircraft Certification Office, 1601 Lind Avenue, SW., Renton, Washington 98055-4056; telephone (425) 917-6434; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-181-AD.” The postcard will be date stamped and returned to the commenter.

Availability of NPRMs

Any person may obtain a copy of this NPRM by submitting a request to the FAA, Transport Airplane Directorate, ANM-114, Attention: Rules Docket No. 2001-NM-181-AD, 1601 Lind Avenue, SW., Renton, Washington 98055-4056.

Discussion

On April 20, 1998, the FAA issued AD 98-09-17, amendment 39-10498 (63 FR 20311, April 24, 1998), applicable to all Boeing Model 747-200F and -200C series airplanes, to require repetitive inspections or a one-time inspection to detect cracking of certain areas of the upper deck floor beams, and corrective actions if necessary. That action was prompted by reports indicating that fatigue cracks were found in the upper chord and web of upper deck floor beams. The requirements of that AD are intended to prevent such fatigue cracking and the resultant failure of such floor beams. Failure of the floor beam could result in damage to critical flight control cables and wire bundles that pass through the floor beam, and consequent loss of controllability of the airplane. Failure of the floor beam also could result in the failure of the adjacent fuselage frames and skin, and consequent rapid decompression of the airplane.

In the preamble to AD 98-09-17, we specify that the actions required by that AD are considered “interim action” and that the manufacturer was developing a preventive modification to address the unsafe condition. We indicated that we might consider further rulemaking action once the modification was developed, approved, and available. Though the manufacturer now has developed such a modification, we have determined that it does not provide an adequate level of safety, as explained below under the heading “Differences Between Proposed AD and Service Bulletins.” However, considering the nature of the identified unsafe condition, we have determined that it is necessary to proceed with rulemaking action at this time to ensure the continued operating safety of the affected airplane fleet. This proposed AD follows from that determination.

Explanation of Relevant Service Information

We have reviewed and approved Boeing Alert Service Bulletin 747-53A2429, dated March 22, 2001. That service bulletin describes procedures for a one-time detailed inspection for cracking of the web, upper chord, and strap of certain upper deck floor beams; and an open-hole high frequency eddy current (HFEC) inspection for cracking of the fastener holes of the web and upper chord. The service bulletin also describes procedures for modifying the upper chord of the upper deck floor beams, if no cracking is found, and for installing a permanent repair if cracking is found. The service bulletin recommends new repetitive open-hole HFEC or surface HFEC inspections of the upper deck floor beams following such modification or permanent repair. However, the service bulletin does not contain instructions for such inspections.

We also have reviewed and approved Boeing Service Bulletin 747-53A2420, Revision 1, dated January 7, 1999. (AD 98-09-17 refers to Boeing Alert Service Bulletin 747-53A2420, dated March 26, 1998, as the appropriate source of service information for the inspections required by that AD.) In addition to procedures for inspections of the entire area subject to inspections per AD 98-09-17, Boeing Service Bulletin 747-53A2420, Revision 1, describes procedures for time-limited repairs of certain crack configurations in the upper deck floor beams. These time-limited repairs involve removing the existing strap; performing HFEC inspections of the chord, web, and angle, as applicable; stop-drilling cracks; trimming the angle and machining the vertical leg of the chord, if necessary; and installing a new strap.

Explanation of Requirements of Proposed Rule

Since an unsafe condition has been identified that is likely to exist or develop on other products of this same type design, the proposed AD would supersede AD 98-09-17 to continue to require repetitive detailed inspections or a one-time open-hole HFEC inspection to detect cracking of certain areas of the upper deck floor beams, and corrective actions if necessary. The proposed AD would add a requirement for new one-time detailed and open-hole HFEC inspections for cracking of the web, upper chord, and strap of upper deck floor beams. The proposed AD also would require modification or permanent repair of the upper deck floor beams, as applicable, which would eventually necessitate new repetitive open-hole HFEC or surface HFEC inspections for cracking of the upper deck floor beams. The actions would be required to be accomplished in accordance with Boeing Alert Service Bulletin 747-53A2429 and Boeing Service Bulletin 747-53A2420, Revision 1, except as discussed below.

Differences Between Proposed AD and Service Bulletins

Operators should note that, although Boeing Service Bulletin 747-53A2420, Revision 1, specifies that the manufacturer may be contacted for disposition of certain repair conditions, this proposed AD would require the repair of those conditions to be accomplished in accordance with a method that we have approved, or in accordance with data meeting the type certification basis of the airplane approved by a Boeing Company Designated Engineering Representative (DER) who we have authorized to make such findings.

Operators should note that, although Boeing Alert Service Bulletin 747-53A2429 provides specific instructions for modifying the upper chord of the upper deck floor beams or installing a permanent repair, this proposed AD would require a modification or permanent repair be accomplished in accordance with a method that we have approved, or in accordance with data meeting the type certification basis of the airplane approved by a Boeing Company DER who we have authorized to make such findings. We have determined that the modification and permanent repair procedures specified in Boeing Alert Service Bulletin 747-53A2429 do not provide an adequate level of safety. This determination is based on two reports that we recently received, which indicate that cracks have been found on airplanes that had a modification similar to that specified in Boeing Alert Service Bulletin 747-53A2429. Boeing concurs with our determination and intends to revise that service bulletin in the future to include new modification and permanent repair procedures. Once we have reviewed the revised service bulletin, we may consider approving it as an alternative method of compliance to allow the modification or permanent repair to be accomplished per that service bulletin.

Explanation of Change Made To Existing Requirements

We have changed all references to a “detailed visual inspection” in the existing AD to “detailed inspection” in this action. Note 3 of this proposed AD defines such an inspection.

Cost Impact

There are approximately 81 airplanes of the affected design in the worldwide fleet. We estimate that 23 airplanes of U.S. registry would be affected by this proposed AD.

For airplanes on which the repetitive detailed inspection that is currently required by AD 98-09-17 is accomplished, that inspection takes approximately 1 work hour per airplane, at an average labor rate of $60 per work hour. Based on these figures, the cost impact of the currently required detailed inspection is estimated to be $60 per airplane, per inspection cycle.

The HFEC inspection that is currently required by AD 98-09-17 takes approximately 6 work hours per airplane to accomplish, at an average labor rate of $60 per work hour. Based on these figures, the cost impact of the currently required actions on U.S. operators is estimated to be $8,280, or $360 per airplane.

The new one-time detailed and HFEC inspections that are proposed in this AD action would take approximately 7 work hours per airplane to accomplish, at an average labor rate of $60 per work hour. Based on these figures, the cost impact of the new proposed inspection on U.S. operators is estimated to be $9,660, or $420 per airplane.

For airplanes subject to the modification that is proposed in this AD action, it would take approximately 172 work hours per airplane to accomplish, at an average labor rate of $60 per work hour. Required parts would cost approximately $4,959 per airplane. Based on these figures, the cost impact of the proposed modification is estimated to be $15,279 per airplane.

For airplanes subject to the repair that is proposed in this AD action, it would take approximately 172 work hours per airplane to accomplish, at an average labor rate of $60 per work hour. Required parts would cost approximately $21,646 to $21,857 per airplane. Based on these figures, the cost impact of the proposed repair is estimated to be $31,966 to $32,177 per airplane.

The follow-on repetitive inspections that are proposed in this AD action would take approximately 6 work hours per airplane to accomplish, at an average labor rate of $60 per work hour. Based on these figures, the cost impact of the new proposed follow-on inspections on U.S. operators is estimated to be $8,280, or $360 per airplane, per inspection cycle.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10498 (63 FR 20311, April 24, 1998), and by adding a new airworthiness directive (AD), to read as follows:

Boeing: Docket 2001-NM-181-AD. Supersedes AD 98-09-17, Amendment 39-10498.

Applicability: All Model 747-200F and -200C series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (l)(1) of this AD. The request should include an assessment of the effect of the modification, alteration, or repair on the unsafe condition addressed by this AD; and, if the unsafe condition has not been eliminated, the request should include specific proposed actions to address it.

Compliance: Required as indicated, unless accomplished previously.

To prevent reduced controllability of the airplane and/or rapid decompression of the airplane due to fatigue cracking in the upper deck floor beams, accomplish the following:

Requirements of AD 98-09-17

Note 2: For the purposes of calculating the compliance threshold and repetitive interval for the actions required by paragraphs (a) and (b) of this AD, “flight cycles” are considered to be flight cycles with a cabin pressure differential greater than 2.0 pounds per square inch (psi).

Repetitive Inspections of Certain Upper Deck Floor Beams

(a) For airplanes that have accumulated less than 18,000 total flight cycles as of May 11, 1998 (the effective date of AD 98-09-17, amendment 39-10498): Prior to the accumulation of 15,000 total flight cycles, or within 250 flight cycles after May 11, 1998, whichever occurs later, inspect the upper chord, web, and strap of the upper deck floor beams at body station (BS) 340 through BS 440 inclusive, and the upper deck floor beams at BS 500 and BS 520, on the right and left sides of the airplane, in accordance with paragraph (a)(1) or (a)(2) of this AD. The inspections shall be accomplished in accordance with Boeing Alert Service Bulletin 747-53A2420, dated March 26, 1998; or Boeing Service Bulletin 747-53A2420, Revision 1, dated January 7, 1999.

(1) Perform a detailed inspection to detect cracks in accordance with Figure 2 of the service bulletin.

(i) Repeat the detailed inspection thereafter at intervals not to exceed 25 flight cycles, until the requirements of paragraph (a)(1)(ii) or (e) of this AD are accomplished.

(ii) Within 500 flight cycles after accomplishment of the initial detailed inspection, accomplish paragraph (a)(2) of this AD.

(2) Perform a one-time open hole high frequency eddy current (HFEC) inspection to detect cracks in accordance with Figure 3 of the service bulletin. Accomplishment of this action constitutes terminating action for the repetitive inspection requirements of paragraph (a)(1)(i) of this AD.

(b) For airplanes that have accumulated 18,000 or more total flight cycles as of May 11, 1998: Within 25 flight cycles after May 11, 1998, inspect the upper chord, web, and strap of the upper deck floor beams at BS 340 through BS 440 inclusive, and the upper deck floor beams at BS 500 and BS 520, on the right and left sides of the airplane, in accordance with paragraph (b)(1) or (b)(2) of this AD. The inspections shall be accomplished in accordance with Boeing Alert Service Bulletin 747-53A2420, dated March 26, 1998; or Boeing Service Bulletin 747-53A2420, Revision 1, dated January 7, 1999.

(1) Perform a detailed inspection to detect cracks in accordance with Figure 2 of the service bulletin.

(i) Repeat the detailed inspection thereafter at intervals not to exceed 25 flight cycles, until the requirements of paragraph (b)(1)(ii) or (e) of this AD are accomplished.

(ii) Within 250 flight cycles after accomplishment of the initial detailed inspection, accomplish paragraph (b)(2) of this AD.

(2) Perform a one-time open hole HFEC inspection to detect cracks in accordance with Figure 3 of the service bulletin. Accomplishment of this action constitutes terminating action for the repetitive inspection requirements of paragraph (b)(1)(i) of this AD.

Repair

(c) If any cracking is found during any inspection required by paragraphs (a) or (b) of this AD, prior to further flight, repair in accordance with a method approved by the Manager, Seattle Aircraft Certification Office (ACO), FAA.

New Requirements of this AD

Note 3: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Adjustments to Compliance Time: Cabin Differential Pressure

(d) For the purposes of calculating the compliance threshold and repetitive interval for the actions required by paragraphs (e), (h), (i), and (j) of this AD: The number of flight cycles in which cabin differential pressure is at 2.0 psi or less need not be counted when determining the number of flight cycles that have occurred on the airplane, provided that flight cycles with momentary spikes in cabin differential pressure above 2.0 psi are included as full pressure cycles. For this provision to apply, all cabin pressure records must be maintained for each airplane: No fleet-averaging of cabin pressure is allowed.

Detailed and Eddy Current Inspections of Certain Upper Deck Floor Beams

(e) Within 5,000 flight cycles after accomplishing the most recent inspection required by paragraph (a) or (b) of this AD, or within 1,000 flight cycles after the effective date of this AD, whichever is later: Do paragraphs (e)(1) and (e)(2) of this AD, in accordance with the Accomplishment Instructions of Boeing Alert Service Bulletin 747-53A2429, dated March 22, 2001. Accomplishment of both paragraphs (e)(1) and (e)(2) of this AD constitutes terminating action for the repetitive inspection requirement of paragraph (a)(1)(i) or (b)(1)(i) of this AD, as applicable.

(1) Do a one-time detailed inspection for cracking of the web, upper chord, and strap of the upper deck floor beams at BS 340 through BS 440 inclusive, BS 500, and BS 520, on the right and left sides of the airplane, as specified in Figure 1 of the service bulletin.

(2) Do an open-hole high frequency eddy current inspection for cracking of the fastener holes of the web and upper chord of the upper deck floor beams at BS 340 through BS 440 inclusive, BS 500, and BS 520, on the right and left sides of the airplane, as specified in Figure 2 of the service bulletin.

Compliance With Paragraphs (a) or (b) and (e)

(f) Airplanes on which the inspections required by paragraph (e) of this AD are accomplished within the compliance time specified in paragraph (a) or (b) of this AD, as applicable, are not required to be inspected in accordance with paragraph (a) or (b) of this AD, as applicable.

Modification of Upper Deck Floor Beams

Note 4: The modification procedures specified in Boeing Alert Service Bulletin 747-53A2429, dated March 22, 2001, do not provide an adequate level of safety and are not acceptable for compliance with paragraph (g) of this AD. Figure 3 of the service bulletin is used only for identifying the floor beams.

(g) If no cracking is found during the inspections required by paragraph (e) of this AD, before further flight, except as provided by paragraph (i) of this AD, modify the upper chord of the upper deck floor beams at the locations in Figure 3 of Boeing Alert Service Bulletin 747-53A2429, dated March 22, 2001, in accordance with a method approved by the Manager, Seattle ACO, or in accordance with data meeting the type certification basis of the airplane approved by a Boeing Company Designated Engineering Representative (DER) who has been authorized by the Manager, Seattle ACO, to make such findings. For a modification method to be approved, the approval must specifically reference this AD.

Repair of Upper Deck Floor Beams

(h) If any crack is found during either inspection required by paragraph (e) of this AD: Before further flight, except as provided by paragraph (i) of this AD, do paragraph (h)(1) or (h)(2) of this AD.

(1) Accomplish all actions associated with the time-limited repair, including removing the existing strap; performing HFEC inspections of the chord, web, and angle, as applicable; stop-drilling cracks; trimming the angle and machining the vertical leg of the chord, as applicable; and installing a new strap. Do these actions in accordance with the Accomplishment Instructions of Boeing Service Bulletin 747-53A2420, Revision 1, dated January 7, 1999; except, where the service bulletin specifies to contact Boeing for appropriate action, before further flight, repair in accordance with a method approved by the Manager, Seattle ACO, or in accordance with data meeting the type certification basis of the airplane approved by a Boeing Company DER who has been authorized by the Manager, Seattle ACO, to make such findings. For a repair method to be approved, the approval must specifically reference this AD. Within 1,500 flight cycles or 18 months after the installation of the time-limited repair, whichever is first, do paragraph (h)(2) of this AD.

(2) Accomplish the permanent repair of the upper deck floor beams at the locations shown in Figures 4 and 5, as applicable, of Boeing Alert Service Bulletin 747-53A2429, dated March 22, 2001, in accordance with a method approved by the Manager, Seattle ACO, or in accordance with data meeting the type certification basis of the airplane approved by a Boeing Company DER who has been authorized by the Manager, Seattle ACO, to make such findings. For a repair method to be approved, the approval must specifically refer to this AD.

Note 5: The permanent repair procedures specified in Boeing Alert Service Bulletin 747-53A2429, dated March 22, 2001, do not provide an adequate level of safety and are not acceptable for compliance with paragraph (h)(2) of this AD.

Airplanes Modified or Repaired Previously

(i) For airplanes on which a repair per paragraph (c) of this AD or the modification or permanent repair specified in Boeing Alert Service Bulletin 747-53A2429, dated March 22, 2001, was accomplished before the effective date of this AD: Within 5,000 flight cycles after installation of such modification or repair, as applicable, inspect per paragraph (e) of this AD, then do paragraph (g) or (h) of this AD, as applicable.

Repetitive Inspections After Modification or Permanent Repair

(j) Within 15,000 flight cycles after installation of the modification or permanent repair in accordance with paragraph (g) or (h) of this AD, as applicable, do paragraph (j)(1) or (j)(2) of this AD, in accordance with a method approved by the Manager, Seattle ACO. For an inspection method to be approved, the approval letter must specifically reference this AD.

(1) Option 1: Do surface HFEC inspections along the lower edge of the upper chord of the upper deck floor beams at BS 340 through BS 440 inclusive, BS 500, and BS 520, on the right and left sides of the airplane. Repeat the surface HFEC inspections at intervals not to exceed 1,000 flight cycles.

(2) Option 2: Do open-hole HFEC inspections for cracking at fasteners common to the upper chord, reinforcement straps, and body frame of the upper deck floor beams at BS 340 through BS 440 inclusive, BS 500, and BS 520, on the right and left sides of the airplane. Repeat the open-hole HFEC inspections at intervals not to exceed 3,000 flight cycles.

Repair

(k) If any cracking is found during any inspection required by paragraph (j)(1) or (j)(2) of this AD: Before further flight, repair in accordance with a method approved by the Manager, Seattle ACO, or in accordance with data meeting the type certification basis of the airplane approved by a Boeing Company DER who has been authorized by the Manager, Seattle ACO, to make such findings. For a repair method to be approved, the approval must specifically refer to this AD.

Alternative Methods of Compliance

(l)(1) An alternative method of compliance or adjustment of the compliance time that provides an acceptable level of safety may be used if approved by the Manager, Seattle ACO. Operators shall submit their requests through an appropriate FAA Principal Maintenance Inspector, who may add comments and then send it to the Manager, Seattle ACO.

(2) Alternative methods of compliance, approved previously in accordance with AD 98-09-17, amendment 39-10498, are approved as alternative methods of compliance with paragraphs (a), (b), and (c) of this AD.

Note 6: Information concerning the existence of approved alternative methods of compliance with this AD, if any, may be obtained from the Seattle ACO.

Special Flight Permits

(m) Special flight permits may be issued in accordance with sections 21.197 and 21.199 of the Federal Aviation Regulations (14 CFR 21.197 and 21.199) to operate the airplane to a location where the requirements of this AD can be accomplished.

Issued in Renton, Washington, on June 11, 2003.
Ali Bahrami,
Acting Manager, Transport Airplane Directorate, Aircraft Certification Service.

[FR Doc. 03-15325 Filed 6-17-03; 8:45 am]

BILLING CODE 4910-13-P